NUCLEAR REGULATORY COMMISSION

[Docket Nos. 50-275-LR and 50-323-LR; ASLBP No. 10-900-01-LR-BD01]

Pacific Gas & Electric Company; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding:

Pacific Gas & Electric Company (Diablo Canyon Nuclear Power Plant, Units 1 and 2)

This proceeding involves an application by Pacific Gas & Electric Company (PG&E) for a twenty-year renewal of licenses DPR-80 and DPR-82, which authorize PG&E to operate Diablo Canyon Nuclear Power Plant, Units 1 and 2, located near San Luis Obispo, California. The current operating licenses expire on, respectively, November 2, 2024 and August 26, 2025. In response to a January 21, 2010 Notice of Opportunity for Hearing published in the Federal Register (75 FR 3493), a petition to intervene was submitted by Diane Curran, representing San Luis Obispo Mothers for Peace.

The Board is comprised of the following administrative judges:

Alex S. Karlin, Chair, Atomic Safety and Licensing Board Panel, U.S. Nuclear Regulatory Commission, Washington, DC 20555-0001.

Nicholas G. Trikouros, Atomic Safety and Licensing Board Panel, U.S. Nuclear Regulatory Commission, Washington, DC 20555-0001.

Paul B. Abramson, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 8th day of April 2010.
Thomas S. Moore,
Associate Chief Administrative Judge, Atomic Safety and Licensing Board Panel.

[FR Doc. 2010-8755 Filed 4-15-10; 8:45 am]

BILLING CODE 7590-01-P